DEPARTMENT OF DEFENSE

Office of the Secretary

Notice of Availability of the Ground-Based Midcourse Defense Extended Test Range Final Environmental Impact Statement

AGENCY: Missile Defense Agency, Department of Defense and Federal Aviation Administration, Department of Transportation.

ACTION: Correction notice for the notice of availability.

SUMMARY: This notice amends the notice published in the Federal Register on July 15, 2003, (68 FR 41784) on “Ground-Based Midcourse Extended Test Range Environmental Impact Statement Notice of Availability (NOA).” This notice revises the published closure date to reflect the original NOA publication date in the Federal Register by the U.S. Environmental Protection Agency on July 11, 2003 (68 FR 41338). The corrected NOA closure date is August 11, 2003. All other information remains unchanged.

DATES: A Record of Decision will be issued no earlier than 30 days from July 11, 2003.

FOR FURTHER INFORMATION CONTACT: Please call Mr. Rick Lehner, MDA Director of Communications at (703) 697-8997.

Dated: July 24, 2003.
L.M. Bynum,
Alternate OSD Federal Liaison Officer, Department of Defense.

[FR Doc. 03-19451 Filed 7-30-03; 8:45 am]

BILLING CODE 5001-08-M